DEPARTMENT OF DEFENSE

Department of the Navy

Notice of Availability of Government-Owned Inventions; Available for Licensing

AGENCY: Department of the Navy, DOD.

ACTION: Notice.

SUMMARY: The inventions listed below are assigned to the U. S. Government as represented by the Secretary of the Navy and are available for licensing by the Department of the Navy. U.S. Patent No. 5,352,760: Polymerization of Oligomeric Multiple Aromatic Ether-Containing Phthalonitriles, Navy Case No. 73,258//U.S. Patent No. 5,464,926: Synthesis and Polymerization of Oligomeric Multiple Aromatic Ether-Containing Phthalonitrile, Navy Case No. 76,155//U.S. Patent No. 5,965,268: Carbon-Based Composites Derived from Phthalonitrile Resins, Navy Case No. 78,474//Navy Case No. 83,013: Synthesis of Novel Oligomeric Hydroxy Arylethers, Conversion to Oligomeric Arylether Containing Phthalonitrile and Polymerization Thereof.

ADDRESSES: Requests for copies of the inventions cited should be directed to the Naval Research Laboratory, Code 1004, 4555 Overlook Avenue SW., Washington, DC 20375-5320, and must include the Navy Case number.

FOR FURTHER INFORMATION CONTACT: Jane F. Kuhl, Technology Transfer Office, NRL Code 1004, 4555 Overlook Avenue, SW, Washington, DC 20375-5320, telephone (202) 767-7230. Due to temporary U.S. Postal Service delays, please fax (202) 404-7920, E-Mail: kuhl@utopia.nrl.navy.mil or use courier delivery to expedite response.

(Authority: 35 U.S.C. 207, 37 CFR Part 404.)

Dated: November 25, 2003.
J.T. Baltimore,
Lieutenant Commander, Judge Advocate General's Corps, U.S. Navy, Alternate Federal Register Liaison Officer.

[FR Doc. 03-29893 Filed 12-1-03; 8:45 am]

BILLING CODE 3810-FF-P